DEPARTMENT OF HEALTH AND HUMAN SERVICES

Centers for Disease Control and Prevention

[Program Announcement 02207]

Core State Injury Surveillance and Program Development; Notice of Availability of Funds

A. Purpose

The Centers for Disease Control and Prevention (CDC), announces the availability of fiscal year (FY) 2002 funds for a cooperative agreement program for Core State Injury Surveillance and Program Development, focused in two phases: Phase I Basic Core Injury Program Development; Phase II Enhanced Core Injury Program Development. This Program addresses “Healthy People 2010” focus area of Injury and Violence Prevention.

The purposes of the cooperative agreements are to develop, implement and evaluate injury core and/or surveillance programs in one of the specified injury-related priority areas.

Measurable outcomes of the program will be in alignment with the following performance goal for the National Center for Injury Prevention and Control: Enhance the capacity of states to implement effective injury prevention programs.

B. Authority and Catalog of Federal Domestic Assistance Number

This program is authorized under section 301(a), 317(k)(2), 391, 392, 394, and 394A [42 U.S.C. 241(a), 247b(k)(2), 280b, 280b-1, 280b-2, 280b-3] of the Public Health Service Act, as amended. The Catalog of Federal Domestic Assistance number is 93.136.

C. Eligible Applicant

Assistance will be provided only to the health departments of States or their bona fide agents, including the District of Columbia, the Commonwealth of Puerto Rico, the Virgin Islands, the Commonwealth of the Northern Mariana Islands, American Samoa, Guam, the Federated States of Micronesia, the Republic of the Marshall Islands, the Republic of Palau, and federally recognized Indian tribal governments. In consultation with States, assistance may be provided to political subdivisions of States.

Note: Title 2 of the United States Code section 1611 states that an organization described in section 501(c)(4) of the Internal Revenue Code that engages in lobbying activities is not eligible to receive Federal funds constituting an award, grant, cooperative agreement, contract, or loan.

D. Availability of Funds

Approximately $300,000 is available in FY 2002 to fund up to four awards for Phase I Basic Core Injury Development or Phase II Enhanced Core Injury Development. The average award amount would be $75,000. It is expected that the award will begin on or about September 1, 2002, and will be made for a 12-month budget period within a project period of three years. Funding estimates may change.

Matching funds are not required for this program.

Continuation awards within an approved project period will be made on the basis of satisfactory progress, as evidenced by required reports, and on the availability of funds.

E. Program Requirements

In conducting activities to achieve the purpose of this program, the recipient will be responsible for the activities under 1. Recipient Activities and CDC will be responsible for the activities listed under 2. CDC Activities.

1. Recipient Activities

Phase I: Basic Core Injury Program Development

a. Establish an injury focal point and coordinating process within the public health agency.

b. Establish an injury advisory council to address issues relevant to injury prevention and control in the State.

c. Conduct data review and analysis to determine the availability of data about injury problems and the potential for solutions in the State and region in comparison to the nation. Develop an annotated report containing this information.

d. Identify and catalog current and potential injury prevention and control resources within the State.

e. Develop a State injury plan which is based on data and which is prioritized for the prevention and control of injuries and serves as a resource for other State agencies.

Phase II: Enhanced Core Injury Program Development

In addition to the activities indicated for Phase I, above, applicant will also:

a. Analyze existing data to define the magnitude of the injury problem in the State, the populations at risk, and the causes of injury.

b. Use the 11 recommended core data sets to produce and disseminate written reports on injuries within the State and conduct national comparisons. (To obtain a copy of Consensus recommendations, see Section J. “Where to Obtain Additional Information”.)

c. Evaluate data to determine whether data sources can be linked and whether linking them provides any benefit to prevention.

d. Develop or update a State injury plan which is based on data and which is prioritized for the prevention and control of injuries and serve as a resource for other State agencies.

e. Develop, update, or expand an injury advisory council to provide input on issues relevant to injury prevention and control in the State.

f. Provide coordination for injury activities of the public health agency.

g. Participate in a process for establishing and reviewing some components (e.g., data collection and analysis; coordination and collaboration; and technical support and training) of the five minimum components used to define a Core Injury Program. Share “lessons learned” about and through this process with other States.

2. CDC Activities

a. Provide consultation on planning, implementation, evaluation, data analysis, and dissemination of results.

b. Provide coordination between and among the States, by assisting in the transfer of information and methods developed to other programs, and providing up-to-date information.

c. Provide technical assistance for the Behavioral Risk Factor Surveillance System (BRFSS) and other available specific injury surveillance modules when requested.

d. Operate a process of evaluation and improvement in which lessons learned are shared among other States implementing the same type of program.

e. Coordinate compilation of “lessons learned” through this process and communicate them.

F. Content

Pre-Application Workshop for Applicants

For interested applicants, a telephone conference call for pre-application technical assistance will be held on July 24, from 2:00 pm to 3:00 pm, Eastern Standard Time. The conference name is NCIPC Core Injury, the bridge number for the conference call is 404-639-4100 or 1-800-713-1971 and the pass code is 112180 If you have a problem during your conference, you may press *0 at anytime to signal the attendant. If you have questions about the technical operations of the teleconference equipment, please call 404-639-7550.

Letter of Intent (LOI)

A LOI is required for this program. The Program Announcement title and number must appear in the LOI. The narrative should be no more than one page single spaced, printed on one side, with one inch margins, and unreduced font. Your letter of intent will be used to estimate the potential review workload and avoid conflict of interest in the review. It should include the following information, the name, organization, address, and telephone number of the Principal Investigator and whether you are applying for Phase I or Phase II funding.

Application

The Program Announcement title and number must appear in the application. Use the information in the Program Requirements, Other Requirements, and Evaluation Criteria sections to develop the application content. Subject to the limitations described under Eligible Applicants, Section B above, States may choose to apply for Phases I or II. A separate application should be submitted for each Phase (I, II) applied for. Your application will be evaluated on the criteria listed, so it is important to follow them in laying out your program plan. The narrative should be no more than 25 double-spaced pages, printed on one side, with one-inch margins, and unreduced 12 pt Times Roman (or equivalent size) font. Number each page consecutively and provide a complete Table of Contents. The entire application, with appendices, should be no longer than 70 pages total. The application must include a one-page abstract and summary of the proposed effort. The narrative should consist of, at a minimum, a Plan, Objectives, Methods, Evaluation and Budget.

G. Submission and Deadline

Letter of Intent (LOI)

On or before July 31, submit the LOI to the Grants Management Specialist identified in the “Where to Obtain Additional Information” section of this announcement.

Application

Submit the original and two copies of PHS 5161-1 (OMB Number 0937-0189). Forms are available in the application kit and at the following Internet address: www.cdc.gov/od/pgo/forminfo.htm.

They may also be obtained by calling the Grants Management Specialist listed in this announcement.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable) Narrative

Forms may not be submitted electronically.

The application must be received by 5 p.m. Eastern Time, August 21, 2002. Submit the application to: Technical Information Management—PA02207, Procurement and Grants Office, Centers for Disease Control and Prevention, 2920 Brandywine Rd, Room 3000, Atlanta, GA 30341-4146.

Deadline: Applications shall be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Application

Applicants are required to provide measures of effectiveness that will demonstrate the accomplishment of the various identified objectives of the cooperative agreement. Measures of effectiveness must relate to the performance goal stated in section “A. Purpose” of this announcement. Measures must be objective and quantitative and must measure the intended outcome. These measures of effectiveness shall be submitted with the application and shall be an element of evaluation.

Each application will be evaluated individually against the following criteria by an independent review group appointed by CDC:

1. Need for Core Program Development (30 points)

For Phase I Applicants

The extent to which the applicant describes the need for Core Program funding and the minimal nature of their injury program.

The extent to which the applicant describes the level of agency resources directed toward injury activities, if applicable, and how this additional funding will contribute to efforts to initiate or improve existing or planned injury surveillance activities.

The extent to which the applicant defines the agency's commitment to coordinating injury prevention and control activities through a focal point.

For Phase II Applicants

The extent to which the applicant describes an existing injury program which continually maintains capacity to conduct injury activities.

2. Methods and Staffing (30 points)

Phase I and II

The extent to which the applicant provides: (1) a detailed description of how staffing resources (including epidemiological resources) will be allocated and used to accomplish each objective and overall program goals, and which includes designation of a injury program director or equivalent with responsibility for directing and coordinating an injury prevention and control program; (2) a reasonable and complete schedule for implementing and completing all activities; (3) a description of the roles of each unit, organization, or agency, and evidence of coordination, supervision, and degree of commitment (e.g., time, in-kind, financial) of staff, organizations, and agencies involved in injury surveillance activities; (4) evidence of access or assignment of epidemiological expertise for performing routine data review and analysis activities and providing technical advice and consultation for other State agencies.

3. Evaluation (20 points)

Phase I and II

The extent to which the proposed evaluation system is detailed, addresses goals and objectives of the program, and will document program process, effectiveness, and impact. The extent to which the applicant demonstrates potential data sources for evaluation purposes and methods to evaluate the data sources, and documents staff availability, expertise, experience, and capacity to perform the evaluation.

The extent to which a feasible plan for reporting evaluation results and using evaluation information for programmatic decisions and continuous program improvement is present.

4. Goals and Objectives (10 points)

Phase I and II

The extent to which the applicant includes goals which are relevant to the purpose of the proposal and feasible to accomplish during the project period.

The extent to which the applicant has included objectives which are feasible to accomplish during the budget period, and which address all activities necessary to accomplish the purpose of the proposal.

The extent to which the objectives are specific, time-framed, measurable, and realistic.

5. Collaboration (10 points)

Phase I and II

The extent to which relationships between the program and other organizations, agencies, and health department units that will relate to the program or conduct related activities are clear, complete and provide for complementary or supplementary interactions.

The extent to which advisory group membership and roles are clear and appropriate.

The extent to which relationships with local academic institutions are completely described and appropriate.

The extent to which surveillance, if any, of core injury conditions will be developed and coordinated to enable comparability of Traumatic Brain Injury (TBI) and other injury data with other States and jurisdictions.

6. Budget and Justification (not scored)

Phase I and II

The extent to which the applicant provides a detailed budget and narrative justification consistent with stated objectives and planned program activities.

Does the application adequately address the requirements of Title 45 CFR part 46 for the protection of human subjects? (Not scored; however, an application can be disapproved if the research risks are sufficiently serious and protection against risks is so inadequate as to make the entire application unacceptable.) Does the application adequately address the CDC Policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

I. Other Requirements

Technical Reporting Requirements

Provide CDC with the original plus two copies of:

1. Semi-annual progress report. The progress report will include a data requirement that demonstrates measures of effectiveness.

2. Financial status report, no more than 90 days after the end of the budget period.

3. Final financial status and performance reports, no more than 90 days after the end of the project period.

Send all reports to the Grants Management Specialist identified in the “Where To Obtain Additional Information” section of this announcement.

The following additional requirements are applicable to this program. For a complete description of each, see Attachment 1 of the announcement.

AR-9 Paperwork Reduction Act Requirements

AR-10 Smoke-Free Workplace Requirements

AR-11 Healthy People 2010

AR-12 Lobbying Restrictions

AR-13 Prohibition on Use of CDC Funds for Certain Gun Control Activities

AR-14 Accounting System Requirements

J. Where To Obtain Additional Information

This and other CDC announcements can be found on the CDC home page on the Internet: http://www.cdc.gov Click on “Funding” then “Grants and Cooperative Agreements.”

To obtain business management technical assistance, contact: Angie Nation, Grants Management Specialist—PA 02207, Procurement and Grants Office, Centers for Disease Control and Prevention (CDC), 2920 Brandywine Road, Suite 3000, Atlanta, GA 30341-4146, Telephone: (770) 488-2719, E-mail address: Acn4@cdc.gov.

For program technical assistance, contact: Cecil Threat, Centers for Disease Control and Prevention, National Center for Injury Prevention and Control, 4770 Buford Highway N.E., Mailstop F42, Atlanta, GA 30341-3724, Telephone: (770) 488-1236, Fax: 770-488-4338, E-mail: CThreat@cdc.gov.

Dated: July 15, 2002.
Sandra R. Manning,
Director, Procurement and Grants Office, Centers for Disease Control and Prevention.

[FR Doc. 02-18362 Filed 7-19-02; 8:45 am]

BILLING CODE 4163-18-P